DEPARTMENT OF ENERGY

Federal Energy Regulatory Commission

[Docket No. EC00-76-000]

Black River Limited Partnership; Errata of February 15, 2000; Notice of Amendment to Application for Commission Determination of Exempt Wholesale Generator Status Issued February 11, 2000

By this notice, the due date for interventions and protests in the above-referenced proceeding is hereby shortened to and including February 25, 2000.

David P. Boergers,
Secretary.

[FR Doc. 00-4056 Filed 2-18-00; 8:45 am]

BILLING CODE 6717-01-M